DEPARTMENT OF HEALTH AND HUMAN SERVICES

Office of the Secretary

[Document Identifier HHS-OS-0955-0013-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for reinstatement of a previously-approved information collection assigned OMB control number 0955-0013, which expired on July 31, 2014. Comments submitted during the first public review of this ICR will be provided to OMB. OMB will accept further comments from the public on this ICR during the review and approval period.

DATES: Comments on the ICR must be received on or before February 23, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0955-0013 and document identifier HHS-0955-0013-30D for reference.

Information Collection Request Title: Permanent Certification Program for Health Information Technology.

Abstract: HHS/Office of the National Coordinator for Health Information Technology, (ONC) is requesting an approval by OMB on a reinstatement without change to a previously approved collection of information under the permanent certification program (OMB control number 0990-0013). Under 45 CFR 170.523(f), ONC-ACBs are required to provide ONC, no less frequently than weekly, a current list of Complete EHRs and/or EHR Modules that have been certified which includes, at a minimum, the vendor name (if applicable), the date certified, the product version, the unique certification number or other specific product identification, and where applicable, the certification criterion or certification criteria to which each EHR Module has been certified. Organizations that wish to become ONC-Authorized Certification Bodies (ONC-ACBs) must submit the information specified by the application requirements, and ONC-ACBs must comply with collection and reporting requirements, records retention requirements, and submit annual surveillance plans and annually report surveillance results.

Likely Respondents: Accreditation Organization, Applicants, ONC-ACB Surveillance Plan and Results.

Total Estimated Annualized Burden—Hours
Type of respondent | Number of respondents | Number of responses per respondent | Burden hours per response | Total burden hours
Accreditation Organization | 2 | 1 | 1 | 2
Applicant | 6 | 1 | 1 | 6
45 CFR 170.523(f) | 6 | 52 | 1.33 | 415
ONC-ACB Surveillance Plan and Results | 6 | 2 | 1 | 12
Total |  |  |  | 435

Darius Taylor,
Information Collection Clearance Officer.

[FR Doc. 2015-01103 Filed 1-22-15; 8:45 am]

BILLING CODE 4150-45-P